DEPARTMENT OF STATE

[Public Notice No. 3888]

Advisory Committee on International Economic Policy Open Meeting Notice

The Advisory Committee on International Economic Policy (ACIEP) will meet from 9 a.m. to 12 p.m. on Thursday, March 7, 2002, in Room 1406, U.S. Department of State, 2201 C Street, NW, Washington, DC 20520. The meeting will be hosted by Committee Chairman R. Michael Gadbaw and Assistant Secretary of State for Economic and Business Affairs E. Anthony Wayne.

The ACIEP serves the U.S. Government in a solely advisory capacity concerning issues and problems in international economic policy. The objective of the ACIEP is to provide expertise and insight on these issues that are not available within the U.S. Government.

Topics for the March 7 meeting will be:

• Financing for Development and Current Development Issues

• The 2002 Trade Agenda

The public may attend these meetings as seating capacity allows. The media is welcome but discussions are off the record. Admittance to the Department of State building is by means of a pre-arranged clearance list. In order to be placed on this list, please provide your name, title, company or other affiliation if appropriate, social security number, date of birth, and citizenship to the ACIEP Executive Secretariat by fax (202) 647-5936 (Attention: Cecelia Walker); Tel: (202) 647-0847; or email: (walkercr@state.gov) by March 5, 2002. On the date of the meeting, persons who have pre-registered should come to the 23rd Street entrance. One of the following valid means of identification will be required for admittance: a U.S. driver's license with photo, a passport, or a U.S. Government ID.

For further information about the meeting, contact Deborah Grout, ACIEP Secretariat, U.S. Department of State, Bureau of Economic and Business Affairs, Room 3526, Main State, Washington, DC 20520. Tel: 202-647-1826.

Dated: February 21, 2002.
Deborah Grout,
Executive Secretary, Advisory Committee on International Economic Policy, Department of State.

[FR Doc. 02-4653 Filed 2-26-02; 8:45 am]

BILLING CODE 4710-07-P